DEPARTMENT OF AGRICULTURE

Animal and Plant Health Inspection Service

[Docket No. APHIS-2019-0002]

Notice of Availability of an Environmental Assessment for the Release of Aphalara Itadori for the Biological Control of Japanese, Giant, and Bohemian Knotweeds

AGENCY: Animal and Plant Health Inspection Service, USDA.

ACTION: Notice of availability; reopening of comment period.

SUMMARY: We are reopening the comment period for an environmental assessment relative to permitting the release of Aphalara itadori for the biological control of Japanese, Giant, and Bohemian knotweeds (Fallopia japonica, F. sachalinensis, and F. x bohemica), significant invasive weeds, within the contiguous United States. This action will allow interested persons additional time to prepare and submit comments.

DATES: The comment period for the notice published on May 28, 2019 (84 FR 24463) is reopened. We will consider all comments that we receive on or before August 26, 2019.

ADDRESSES: You may submit comments by either of the following methods:

• Federal eRulemaking Portal: Go to http://www.regulations.gov/#!docketDetail;D=APHIS-2019-0002.

• Postal Mail/Commercial Delivery: Send your comment to Docket No. APHIS-2019-0002, Regulatory Analysis and Development, PPD, APHIS, Station 3A-03.8, 4700 River Road Unit 118, Riverdale, MD 20737-1238.

Supporting documents and any comments we receive on this docket may be viewed at http://www.regulations.gov/#!docketDetail;D=APHIS-2019-0002 or in our reading room, which is located in Room 1141 of the USDA South Building, 14th Street and Independence Avenue SW, Washington, DC. Normal reading room hours are 8 a.m. to 4:30 p.m., Monday through Friday, except holidays. To be sure someone is there to help you, please call (202) 7997039 before coming.

FOR FURTHER INFORMATION CONTACT: Dr. Colin D. Stewart, Assistant Director, Pests, Pathogens, and Biocontrol Permits, Permitting and Compliance Coordination, PPQ, APHIS, 4700 River Road Unit 133, Riverdale, MD 20737-1231; (301) 851-2237; email: Colin.Stewart@usda.gov.

SUPPLEMENTARY INFORMATION: On May 28, 2019, we published in the Federal Register (84 FR 24463, Docket No. APHIS-2019-0002) a notice of availability for an environmental assessment relative to permitting the release of Aphalara itadori for the biological control of Japanese, Giant, and Bohemian knotweeds (Fallopia japonica, F. sachalinensis, and F. x bohemica), significant invasive weeds, within the contiguous United States.

Comments on the notice were required to be received on or before June 27, 2019. We are reopening the comment period on Docket No. APHIS-2019-0002 for an additional 60 days. This action will allow interested persons additional time to prepare and submit comments.

We will also consider all comments received between June 28, 2019 (the day after the close of the original comment period) and the date of this notice.

Done in Washington, DC, this 30th day of July 2019.
Kevin Shea,
Administrator, Animal and Plant Health Inspection Service.

[FR Doc. 2019-16581 Filed 8-1-19; 8:45 am]

BILLING CODE 3410-34-P